DEPARTMENT OF TREASURY

Internal Revenue Service

Appointment of Members of the Legal Division to the Performance Review Board, Internal Revenue Service

Under the authority granted to me as Chief Counsel of the Internal Revenue Service by the General Counsel of the Department of the Treasury by General Counsel Directive 15, pursuant to the Civil Service Reform Act, I have appointed the following persons to the Legal Division Performance Review Board, Internal Revenue Service Panel:

1. Drita Tonuzi, Deputy Chief Counsel (Operations)

2. Paul T. Butler, Associate Chief Counsel (Procedures and Administration)

3. Robin Greenhouse, Division Counsel (Large Business and International)

4. Edith M. Shine, Associate Chief Counsel (Finance and Management)

5. Holly A. Porter, Associate Chief Counsel (Passthroughs and Special Industries)

Alternate: Mark L. Hulse, Division Counsel (Tax Exempt and Government Entities)

This publication is required by 5 U.S.C. 4314(c)(4).

Marjorie A. Rollinson,
Chief Counsel, Internal Revenue Service.

[FR Doc. 2024-23233 Filed 10-7-24; 8:45 am]

BILLING CODE 4830-01-P